DEPARTMENT OF COMMERCE

International Trade Administration

[A-570-848]

Freshwater Crawfish Tail Meat from the People's Republic of China: Notice of Partial Rescission of Antidumping Duty Administrative Review

AGENCY: Import Administration, International Trade Administration, Department of Commerce.

SUMMARY: On October 25, 2005, the Department of Commerce (“the Department”) published in the Federal Register a notice announcing the initiation of the 04-05 administrative review of the antidumping duty order on freshwater crawfish tail meat from the People's Republic of China (“PRC”). See Notice of Initiation of Antidumping and Countervailing Duty Administrative Reviews, 70 FR 61601 (October 25, 2005) (“Initiation Notice”). The period of review (“POR”) is September 1, 2004, to August 31, 2005.

This review is now being rescinded for China Kingdom Import & Export Co., Ltd., (aka China Kingdoma Import & Export Co., Ltd., aka Zhongda Import & Export Co., Ltd.) (China Kingdom), Jiangsu Hilong International Trading Company, Ltd. (Jiangsu Hilong), Qingdao Zhengri Seafood Co., Ltd. (Qingdao Zhengri), Weishan Zhenyu Foodstuff Co., Ltd. (Weishan Zhenyu), Yancheng Haiteng Aquatic Products & Foods Co., Ltd. (Yancheng Haiteng), Yancheng Yaou Seafood Co., Ltd. (Yancheng Yaou), and Ningbo Nanlian Frozen Foods Co., Ltd. (Ningbo Nanlian), because the requesting parties, the Crawfish Processors Alliance (Petitioners), the Louisiana Department of Agriculture and Forestry, and Bob Odom, Commissioner (collectively, the Domestic Interested Parties) and Ningbo Nanlian withdrew their requests in a timely manner.

EFFECTIVE DATE: February 15, 2006.

FOR FURTHER INFORMATION CONTACT: Scot Fullerton or Erin Begnal, AD/CVD Operations, Office 9, Import Administration, U.S. Department of Commerce, 14th Street and Constitution Avenue, NW., Room 4003, Washington, DC 20230; telephone: (202) 482-1386 or (202) 482-1442, respectively.

SUPPLEMENTARY INFORMATION:

Background

On August 1, 1997, the Department published in the Federal Register a final determination and antidumping duty order on freshwater crawfish tail meat from the PRC. See Notice of Final Determination of Sales at Less Than Fair Value and Antidumping Duty Order: Freshwater Crawfish Tail Meat from the People's Republic of China, 62 FR 41347 (August 1, 1997).

On September 1, 2005, the Department published a Notice of Opportunity to Request Administrative Review of Antidumping or Countervailing Duty Order, Finding, or Suspended Investigation, 70 FR 52072. On September 30, 2005, the Petitioners requested, in accordance with section 751(a) of the Tariff Act of 1930, as amended, (“the Act”) and 19 CFR 351.213(b), that the Department conduct an administrative review of the antidumping duty order on freshwater crawfish tail meat from the PRC for several companies covering the period September 1, 2004, to August 31, 2005, including China Kingdom, Jiangsu Hilong, Qingdao Zhengri, Weishan Zhenyu, Yancheng Haiteng, Yancheng Yaou, and Ningbo Nanlian. In addition, Ningbo Nanlian also requested an administrative review of its entries for the POR.

On October 19, 2005, the Department initiated an administrative review of thirteen Chinese companies. See Initiation Notice. However, on January 23, 2006, the Petitioners filed a timely letter withdrawing their request for review of China Kingdom, Jiangsu Hilong, Qingdao Zhengri, Weishan Zhenyu, Yancheng Haiteng, Yancheng Yaou, and Ningbo Nanlian. In addition, Ningbo Nanlian filed its own letter in a timely manner, on January 23, 2006, withdrawing its request for an administrative review.

Rescission of Review

Pursuant to section 351.213(d)(1) of the Department's regulations, if a party that requests a review withdraws the request within ninety days of the date of publication of the notice of initiation of the requested review, the Secretary will rescind the review. The Petitioners and Ningbo Nanlian withdrew their requests for review in a timely manner, in accordance with 19 CFR 351.213(d)(1). Since the Petitioners were the only party to request an administrative review of China Kingdom, Jiangsu Hilong, Qingdao Zhengri, Weishan Zhenyu, Yancheng Haiteng, and Yancheng Yaou, and petitioners and Ningbo Nanlian both withdrew their requests for review of Ningbo Nanlian, we are rescinding this review of the antidumping duty order on freshwater crawfish tail meat from the PRC covering the period September 1, 2004, through August 31, 2005, with respect to China Kingdom, Jiangsu Hilong, Qingdao Zhengri, Weishan Zhenyu, Yancheng Haiteng, Yancheng Yaou, and Ningbo Nanlian.

Cash Deposit Requirements

The Department will instruct U.S. Customs and Border Protection (“CBP”) to assess antidumping duties on all appropriate entries. For those companies for which this review has been rescinded, antidumping duties shall be assessed at rates equal to the cash deposit of estimated antidumping duties required at the time of entry, or withdrawal from warehouse, for consumption, in accordance with 19 CFR 351.212(c)(2). The Department will issue appropriate assessment instructions directly to CBP within 15 days of publication of this notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i) of the Act and 19 CFR 351.213(d)(4).

Dated: February 8, 2006.
Stephen J. Claeys,
Deputy Assistant Secretary for Import Administration.

[FR Doc. E6-2168 Filed 2-14-06; 8:45 am]

BILLING CODE 3510-DS-S